DEPARTMENT OF THE INTERIOR

National Park Service

36 CFR Part 7

RIN 1024-AD79

Special Regulations; Areas of the National Park System

AGENCY: National Park Service.

ACTION: Final Rule.

SUMMARY: The National Park Service (NPS) is removing the regulation that closed the Harry S Truman Home to all public use until June 1, 2010. The closure was necessary because of serious health and safety hazards to visitors during the repair and restoration work and the potential for damage to irreplaceable artifacts. Closure could not be avoided without compromising the quality and cost of renovation of the Truman Home. It was necessary to become effective upon publication to allow major repair and restoration activities scheduled to proceed. The projects have been completed and the Truman Home has been reopened as scheduled.

DATES: Effective Date: July 8, 2010.

FOR FURTHER INFORMATION CONTACT: Superintendent Larry Villalva, at Harry S Truman National Historic Site. Telephone 816-254-2720.

SUPPLEMENTARY INFORMATION:

Background

The projects to repair and restore the Truman Home are part of the National Park Service Centennial Initiative, which was introduced in May 2007. The initiative is a nine year plan to improve facilities and services in the National Park Service for the 100th anniversary of the agency in 2016. One of the main goals is stewardship of natural and cultural resources in our National Parks, including rehabilitation, restoration and maintenance of treasured cultural resources such as the Truman Home. The home is a Victorian-style mansion which was built in 1867 and became part of the National Park System in 1983. It served as the residence of Harry S Truman, 33rd President of the United States from 1919 until his death in 1972.

During the closure, we completed four projects: installation of a new HVAC system, installation of a fire suppression system, repair of structural deficiencies, and rehabilitation of walls, ceilings and historic wall covering materials. Before these construction projects, we removed and stored the historic furnishings to protect them from accidental damage from fine dust caused by construction activities.

We removed historic wallpaper from the dining room and upstairs bedroom areas for cleaning, repairing, and reinstallation by a paper conservator. Plaster located in many areas throughout the home failed as a result of deterioration and exposure to moisture which caused ceilings to buckle, and walls to either bulge or crack.

The existing HVAC system installed in 1985 failed to maintain a stable environment in the Truman Home. This compromised the longevity of not only the home's infrastructure, but also the thousands of artifacts on exhibit and in storage within the home. We installed three HVAC units to stabilize the interior environment. Since the project required removal of flooring on the second floor and attic to install ductwork, we used the opportunity for access to the floor cavities to install a fire suppression system.

Administrative Procedure Act

The temporary closure of the Truman Home to visitors ended on June 1, 2010, making it possible for the public to again visit this historic property (36 CFR 7.94; 70 FR 51239). The regulation is no longer necessary and should be removed. Since accepting public comment on this rule would be unnecessary and contrary to the public interest, we find under the Administrative Procedure Act that it is not necessary to publish a proposed rule. For the same reasons, we find that the rule can become effective immediately under the criteria in the Administrative Procedure Act.

Regulatory Planning and Review (Executive Order 12866)

This document is not a significant rule and the Office of Management and Budget has not reviewed this rule under Executive Order 12866. We have made the assessments required by E.O. 12866 and the results are given below.

(1) This rule will not have an effect of $100 million or more on the economy. It will not adversely affect in a material way the economy, productivity, competition, jobs, the environment, public health or safety, or State, local, or tribal governments or communities. The area restricted through the rulemaking was closed only during the Truman Home repair, preservation and protection construction activities stabilizing the structure, replacing the HVAC systems and adding a fire suppression system, and is now safe for access by the public.

(2) This rule will not create a serious inconsistency or otherwise interfere with an action taken or planned by another agency. The closure was confined to one building located within a unit of the National Park System, which is neither managed nor occupied by any other agency.

(3) This rule does not alter the budgetary effects of entitlements, grants, user fees, or loan programs or the rights or obligations of their recipients. The rule was confined to the closure for public safety and protection of the historic resource, does not regulate any financial programs or matters and is being removed.

(4) This rule does not raise novel legal or policy issues. Closure of a historic structure for restoration is a normal procedure for assuring public safety, minimizing interruption of the restoration process, and protection of the building and contents while construction is ongoing, and the needed restoration has been accomplished.

Regulatory Flexibility Act

The Department of the Interior certifies that this document will not have a significant economic effect on a substantial number of small entities under the Regulatory Flexibility Act (5 U.S.C. 601 et seq.). The economic effects of this rule are local in nature and negligible in scope. The primary purpose of this rule is to close the Truman Home during preparation and completion of necessary construction activities. Removal of the restriction is necessary in order to allow public access once again.

Small Business Regulatory Enforcement Fairness Act (SBREFA)

This rule is not a major rule under 5 U.S.C. 804(2), the Small Business Regulatory Enforcement Fairness Act. This rule:

a. Does not have an annual effect on the economy of $100 million or more. This rule will allow the public to visit the interior of the Truman Home during the closure.

b. Will not cause a major increase in costs or prices for consumers, individual industries, federal, state, or local government agencies, or geographic regions. There were no costs associated with the removal of this section of the CFR.

c. Does not have significant adverse effects on competition, employment, investment, productivity, innovation, or the ability of U.S.-based enterprises to compete with foreign-based enterprises. The primary purpose of the interim rule was to implement a closure to allow necessary construction activities to proceed safely and efficiently in order to carry out the protection and preservation of the Truman Home structure. This rule will not change the ability of United States based enterprises to compete in any way.

Unfunded Mandates Reform Act

This rule does not impose an unfunded mandate on State, local, or tribal governments or the private sector of more than $100 million per year. The rule does not have a significant or unique effect on State, local or tribal governments or the private sector. The restrictions under this regulation do not have a significant effect or impose an unfunded mandate on any agency or on the private sector. This rule applies only to federal parkland administered by the National Park Service at Truman Home, and no costs will be incurred by any non-federal parties.

Takings (Executive Order 12630)

Under the criteria in Executive Order 12630, this rule does not have significant takings implications. This rule does not apply to private property, or cause a compensable taking, so there are no takings implications.

Federalism (Executive Order 13132)

In accordance with Executive Order 13132, the rule does not have sufficient federalism implications to warrant the preparation of a Federalism Assessment. This regulation will not have a substantial direct effect on the states, or on the distribution of power and responsibilities among the various levels of government. The rule addresses public access to the Truman Home structure at Harry S Truman National Monument. The affected land is under the administrative jurisdiction of the National Park Service.

Civil Justice Reform (Executive Order 12988)

This rule complies with the requirements of Executive Order 12988. Specifically, this rule:

(a) Meets the criteria of section 3(a) requiring that all regulations be reviewed to eliminate errors and ambiguity and be written to minimize litigation; and

(b) Meets the criteria of section 3(b)(2) requiring that all regulations be written in clear language and contain clear legal standards

National Environmental Policy Act

The Handbook for NPS Director's Order 12 contains a listing of Categorical Exclusions. Section 3.4 D(2) of the Director's Order 12 Handbook provides that “minor changes in programs and regulations pertaining to visitor activities” may be categorically excluded under NEPA. The revision will have no effect on use, adjacent land ownerships or land uses, or adjacent owners or occupants. Visitor access has already resumed, and the only effect of this rule is to remove an obsolete regulation. Completion of the environmental screening form shows that the adoption of this regulation to remove the closure of the Truman house would result in no measurable adverse environmental effects.

We have also determined that the rule does not involve any of the extraordinary circumstances listed in 43 CFR 46.215 that would require further analysis under the National Environmental Policy Act. As such, a categorical exclusion is the appropriate form of NEPA compliance for this regulatory action.

Government-to-Government Relationship With Tribes

Under the criteria in Executive Order 13175, we have evaluated this rule and determined that it has no potential effects on federally recognized Indian tribes. This interim rule is temporary, is limited to the closure of the Truman house, does not affect any other area of the park, and does not involve items or interests of federally recognized Indian tribes.

Information Quality Act

In developing this rule we did not conduct or use a study, experiment, or survey requiring peer review under the Information Quality Act (Pub. L. 106-554).

Effects on the Energy Supply (E.O. 13211)

This rule is not a significant energy action under the definition in Executive Order 13211. A Statement of Energy Effects is not required.

Drafting Information

The following persons participated in the writing of this regulation: Larry Villalva, Superintendent, Harry S Truman National Historic Site, Carol Dage, Curator, Harry S Truman National Historic Site, James Loach, Associate Regional Director, Midwest Regional Office, Omaha, Nebraska; and Philip A. Selleck, Chief, Regulations and Special Park Uses, Washington, DC.

List of Subjects in 36 CFR Part 7

District of Columbia, National Parks, Reporting and recordkeeping requirements.

For the reasons stated in the preamble, the National Park Service amends 36 CFR part 7 as follows:

PART 7—SPECIAL REGULATIONS, AREAS OF THE NATIONAL PARK SYSTEM

1. The authority for part 7 continues to read as follows:

Authority: 16 U.S.C. 1, 3, 9a, 462(k); Sec. 7.96 also issued under D.C. Code 10-137 (2001) and D.C. Code 50-2201 (2001).

§ 7.94 [Removed and reserved]

2. Remove and reserve § 7.94.

Dated: June 29, 2010.
Will Shafroth,
Acting Assistant Secretary for Fish and Wildlife and Parks.

[FR Doc. 2010-16600 Filed 7-7-10; 8:45 am]

BILLING CODE 4312-BA-P